DEPARTMENT OF COMMERCE

National Oceanic and Atmospheric Administration

[I.D. 101606B]

RIN 0648-AV00

Atlantic Highly Migratory Species; Essential Fish Habitat

AGENCY: National Marine Fisheries Service (NMFS), National Oceanic and Atmospheric Administration (NOAA), Commerce.

ACTION: Notice of intent to prepare an environmental impact statement; request for comments.

SUMMARY: NMFS has reviewed all new and existing Essential Fish Habitat (EFH) information in its Consolidated Atlantic Highly Migratory Species Fishery Management Plan (HMS FMP) and has determined that EFH for some Atlantic HMS may need to be updated. Through the publication of this notice, NMFS announces its intent to prepare an environmental impact statement (EIS) pursuant to the National Environmental Policy Act (NEPA) to: examine management alternatives to revise existing HMS EFH; consider additional Habitat Areas of Particular Concern (HAPCs); and to minimize, to the extent practicable, adverse fishing impacts on EFH consistent with the Magnuson-Stevens Fishery Conservation and Management Act (Magnuson-Stevens Act) and other relevant Federal laws. To complete the EIS and assess the potential effects on the human environment NMFS is requesting: new EFH information not considered previously in the Consolidated HMS FMP, comments on potential HAPCs, and information regarding potential fishing/non-fishing impacts that may adversely affect EFH. This information will be used to propose amendments to the Consolidated HMS FMP.

DATES: Comments on this action must be received no later than 5 p.m., local time, on December 22, 2006.

ADDRESSES: Written comments on this action should be mailed to Chris Rilling, Highly Migratory Species Management Division by any of the following methods:

• E-mail: SF1.101606B@noaa.gov. Include in the subject line the following identifier: “I.D. 101606B.”

• Written: 1315 East-West Highway, Silver Spring, MD 20910. Please mark the outside of the envelope “Comments on EFH Amendment to HMS FMP.”

• FAX: 301-713-1917.

FOR FURTHER INFORMATION CONTACT: Chris Rilling, Sari Kiraly, or Mike Clark at (301) 713-2347, or Jackie Wilson at (404) 806-7622.

SUPPLEMENTARY INFORMATION: The Magnuson-Stevens Act (16 U.S.C. 1801 et seq.) as amended by the Sustainable Fisheries Act (Public Law 104-297) provided for the establishment of EFH in FMPs and the consideration of actions to ensure the conservation and enhancement of such habitat. The EFH regulatory guidelines (50 CFR 600.815) state that NMFS should periodically review the EFH provisions of FMPs and revise or amend EFH as warranted based on available information. The EFH guidelines further state that NMFS should review all EFH information at least once every five years.

EFH, including HAPCs, for HMS was identified and described in the 1999 FMP for Atlantic Tunas, Swordfish, and Sharks, and in the 1999 Amendment 1 to the Atlantic Billfish FMP. EFH for five shark species was updated in the 2003 Amendment 1 to the FMP. As part of the five-year review required by the Magunson-Stevens Act, and set forth by schedule in the EFH regulatory guidelines, NMFS reviewed all new and existing EFH data in the Consolidated HMS FMP and determined that revisions to existing EFH for some Atlantic HMS may be warranted. The EIS will be used to propose alternatives to amend some of the existing EFH identifications and descriptions.

In addition to considering possible revisions to EFH identification and descriptions, the EFH guidelines require FMPs to identify fishing and non-fishing activities that may adversely affect EFH. Each FMP must include an evaluation of the potential adverse impacts of fishing on EFH designated under the FMP, effects of each fishing activity regulated under the FMP, as well as the effects of other Federal FMPs and non-federally managed fishing activities (i.e., state fisheries) on EFH. The FMPs must describe each fishing activity and review and discuss all available relevant information such as the intensity, extent, and frequency of any adverse effects on EFH; the type of habitat within EFH that may be adversely affected; and the habitat functions that may be disturbed (50 CFR 600.815(a)(2)). If adverse effects of fishing activities are identified, then the Magnuson-Stevens Act requires the effects of such fishing activities on EFH to be minimized to the extent practicable (Magnuson-Stevens Act, Section 303(a)(7)).

NMFS completed the original analysis of fishing and non-fishing impacts in the 1999 FMP, and presented all new information gathered during the five-year review, including a comprehensive review of all fishing gears and non-fishing activities that could potentially impact EFH, in the Consolidated HMS FMP. Some new information regarding gear impacts was incorporated into the review. For example, information presented in the Gulf of Mexico and Caribbean Fishery Management Council EFH FEIS's (2004) suggests that bottom longline gear may have an adverse affect on coral reef habitat which serves as EFH for certain reef fishes. As a result, NMFS has made a preliminary determination that bottom longline gear may have an adverse affect on EFH for other federally-managed species. An assessment of whether HMS bottom longline gear is fished in EFH, and if so, the intensity, extent, and frequency of such impacts, including any measures to minimize potential impacts, will be addressed in the EIS.

Copies of the Consolidated HMS FMP are available for review (see ADDRESSES).

Request for Comments

NMFS anticipates completing this EIS and any related documents by January 1, 2008.

Authority: 16 U.S.C. 1801 et seq.

Dated: October 31, 2006.
James P. Burgess,
Acting Director, Office of Sustainable Fisheries, National Marine Fisheries Service.

[FR Doc. E6-18783 Filed 11-6-06; 8:45 am]

BILLING CODE 3510-22-S